DEPARTMENT OF THE TREASURY

Internal Revenue Service

26 CFR Parts 1 and 602

[TD 9088]

RIN-1545-BA57

Compensatory Stock Options Under Section 482

AGENCY: Internal Revenue Service (IRS), Treasury.

ACTION: Correction to final regulations.

SUMMARY: This document contains corrections to final regulations that were published in the Federal Register on Tuesday, August 26, 2003 (68 FR 51171), that provide guidance regarding the application of the rules of section 482 governing qualified cost sharing arrangements.

EFFECTIVE DATE: This correction is effective August 26, 2003.

FOR FURTHER INFORMATION CONTACT: Douglas Giblen (202) 435-5265 (not a toll-free number).

SUPPLEMENTARY INFORMATION:

Background

The final regulations that are the subject of these corrections are under section 482.

Need for Correction

As published, the final regulations (TD 9088) contains an error that may prove to be misleading and is in need of clarification.

Correction of Publication

Accordingly, the publication of final regulations (TD 9088), which are the subject of FR. Doc. 03-21355, is corrected as follows:

On page 51173, column 3, in the preamble, under the paragraph heading “Other Comments”, paragraph 2, line 5, the language “account for in the context of QCSAs is” is corrected to read “account in the context of QCSAs is''.

La Nita Van Dyke,
Acting Chief, Publications and Regulations Branch, Legal Processing Division, Associate Chief Counsel (Procedures and Administration).

[FR Doc. 03-28348 Filed 11-10-03; 8:45 am]

BILLING CODE 4830-01-U